DEPARTMENT OF COMMERCE

National Oceanic and Atmospheric Administration

50 CFR Part 622

[I.D. 121801H]

Fisheries of the Caribbean, Gulf of Mexico, and South Atlantic; Queen Conch Resources of Puerto Rico and the U.S. Virgin Islands

AGENCY: National Marine Fisheries Service (NMFS), National Oceanic and Atmospheric Administration (NOAA), Commerce.

ACTION: Notice of intent to prepare a draft supplemental environmental impact statement (DSEIS); request for comments.

SUMMARY: The Caribbean Fishery Management Council (Council) intends to prepare a DSEIS to assess the impacts on the natural and human environment of the management measure proposed in its draft Amendment 2 to the Fishery Management Plan for the Queen Conch Resources of Puerto Rico and the U.S. Virgin Islands (FMP). The purpose of this document is to solicit additional public comments on the scope of the issues to be addressed in the DSEIS, which will be submitted to NMFS for filing with the Environmental Protection Agency (EPA) for publication of a notice-of-availability for public comment.

DATES: Written comments on the scope of issues to be addressed in the DSEIS will be accepted through February 11, 2002.

ADDRESSES: Written comments should be sent to Miguel A. Rolón, Executive Director, Caribbean Fishery Management Council, 268 Muñoz Rivera Avenue, Suite 1108, San Juan, Puerto Rico 00918-1920, telephone: 787-766-5926; fax: 787-766-6239; or you can send comments by e-mail to: Miguel.A.Rolon@noaa.gov or Graciela.Garcia-Moliner@noaa.gov. Copies of the draft Amendment 2 and the preliminary DSEIS may be obtained by contacting the Caribbean Fishery Management Council, 268 Muñoz Rivera Avenue, Suite 1108, San Juan, Puerto Rico 00918-2577; phone: 787-766-5926.

FOR FURTHER INFORMATION CONTACT: Graciela Garcia-Moliner; phone: 787-766-5926; e-mail: Graciela.Garcia-Moliner@noaa.gov or Dr. Peter J. Eldridge; phone: 727-570-5305; fax: 727-570-5583; e-mail: Peter.Eldridge@noaa.gov.

SUPPLEMENTARY INFORMATION:

Background

The FMP was prepared by the Council and approved and implemented by NMFS under procedures of the Magnuson-Stevens Fishery Conservation and Management Act (Magnuson-Stevens Act). The FMP's management measures for queen conch apply in the Exclusive Economic Zone (EEZ) in the U.S. Caribbean. For the purposes of the FMP and its implementing regulations, the U.S. Caribbean consists of the Federal waters beyond the 9-nautical mile boundary in Puerto Rico and beyond the 3-nautical mile boundary in St. Thomas, St. John, and St. Croix, U.S. Virgin Islands. The FMP currently establishes the following management measures for queen conch: (1) A 9-inch overall minimum size limit, or a 3/8-inch shell-lip thickness limitation on the possession of queen conch; (2) a requirement that all species in the management unit be landed in the shell and that the sale of undersized queen conch and queen conch shells be prohibited; (3) a bag limit of three queen conch/day for recreational fishers, not to exceed 12 per boat, and of 150 queen conch/day for licensed commercial fishers; (4) the closure of the harvest season from July 1 through September 30 of each consecutive year; and (5) the prohibition of harvesting queen conch by HOOKAH gear (under-water breathing equipment composed of a compressor aboard the vessel and a long hose thus enabling a diver to work under water for long periods of time) in the EEZ.

The Council is preparing draft FMP Amendment 2. The objectives of Amendment 2 are to address NMFS' determination that queen conch is overfished and is undergoing overfishing and to establish rebuilding measures. Amendment 2, in addressing these issues, proposes to prohibit the harvest and possession of queen conch in the Caribbean EEZ. The Council is preparing a DSEIS as an integrated part of Amendment 2. The DSEIS will describe the amendment's alternative management measures and will assess the environmental impacts of them. The Council is requesting written comments on the scope of the issues to be addressed in the DSEIS. Based on input received during 10 public hearings held in July 2000 (see notice of these hearings at 65 FR 40600) and in November 2001 (see notice of these hearings at 66 FR 55910), the Council intends to revise draft Amendment 2, as appropriate, and to finalize the DSEIS. At the July 2000 hearings, the Council changed the number of the Amendment from Amendment 1 to Amendment 2. The proposed management measure has not been included in a previous FMP amendment. The Council invites the public to comment on the scope of the issues to be addressed by Amendment 2 and its DSEIS and on the types of environmental impacts associated with the various management measures, including the proposed measure discussed above.

Once the Council completes the DSEIS, it will submit it to NMFS for filing with EPA. EPA will publish a notice of availability of the DSEIS for public comment in the Federal Register. The DSEIS will have a 45-day comment period. This procedure is pursuant to regulations issued by the Council on Environmental Quality (CEQ) for implementing the procedural provisions of the National Environmental Policy Act (NEPA) (40 CFR parts 1500-1508) and to NOAA's Administrative Order 216-6 regarding NOAA's compliance with NEPA and the CEQ regulations. The Council will consider public comments received on the DSEIS before adopting final management measures for a final Amendment 2 and to prepare a final supplemental environmental impact statement (FSEIS) in support of its final Amendment 2. The Council would then submit the final Amendment 2 and supporting FSEIS to NMFS for Secretarial review, approval, and implementation under the Magnuson-Stevens Act. NMFS will announce availability of Amendment 2 for public review during the Secretarial review period through notice published in the Federal Register. During Secretarial review, NMFS will also file the FSEIS with EPA for a final 30-day public comment period on the FSEIS. This comment period will be concurrent with the Secretarial review period and will end prior to final agency action to approve, disapprove, or partially approve Amendment 2. All public comment periods on Amendment 2, its proposed implementing regulations, and its associated FSEIS will be announced through notice published in the Federal Register. NMFS will consider all public comments received during the Secretarial review period for Amendment 2 (60-day period), whether they are on the amendment, the FSEIS, or the proposed regulations, prior to final agency action.

Dated: January 4, 2002.
Jonathan Kurland
Acting Director, Office of Sustainable Fisheries, National Marine Fisheries Service.

[FR Doc. 02-645 Filed 1-9-02; 8:45 am]

BILLING CODE 3510-22-S